DEPARTMENT OF HEALTH AND HUMAN SERVICES

National Institutes of Health

Request for Information on Research Opportunities and Operational Activities Related to the NIH Strategic Plan To Advance Research on the Health and Well-Being of Sexual & Gender Minorities Fiscal Years 2021-2025

AGENCY: National Institutes of Health, HHS.

ACTION: Notice.

SUMMARY: Through this Request for Information (RFI), the Sexual & Gender Minority Research Office (SGMRO) in the Division of Program Coordination, Planning, and Strategic Initiatives (DPCPSI), Office of the Director (OD), National Institutes of Health (NIH), invites feedback from stakeholders throughout the scientific research community, clinical practice communities, patient and family advocates, scientific or professional organizations, federal partners, internal NIH stakeholders, and other interested constituents on research opportunities and operational activities related to the NIH Strategic Plan to Advance Research on the Health and Well-Being of Sexual and Gender Minorities fiscal years (FY) 2021-2025. The goal of this request for information is to provide SGM focused organizations, researchers, non-profits, and community members an opportunity to identify potential research opportunities and operational activities related to the NIH mission.

DATES: The SGMRO's Request for Information is open for public comment for a period of 8 weeks. Comments must be received on or before COB (5:00 p.m. ET) December 3, 2021, to ensure consideration. After the public comment period has closed, the comments received by SGMRO will be considered in a timely manner for further implementation of the NIH Strategic Plan to Advance Research on the Health and Well-Being of Sexual and Gender Minorities FY 2021-2025. Comments will be summarized and posted to the SGMRO website.

ADDRESSES: Please see the NIH Strategic Plan to Advance Research on the Health and Well-Being of Sexual and Gender Minorities FY 2021-2025. Comments must be received by email at SGMRO@nih.gov. Please include Request for Information in the subject line.

FOR FURTHER INFORMATION CONTACT: Irene Avila, Ph.D., Assistant Director, Sexual & Gender Minority Research Office (SGMRO), irene.avila@nih.gov, (301) 594-9701.

SUPPLEMENTARY INFORMATION: Background: “Sexual and gender minority” is an overarching term that includes, but is not limited to, individuals who identify as lesbian, gay, bisexual, asexual, transgender, two-spirit, queer, and/or intersex. Individuals with same-sex or -gender attractions or behaviors and those with a difference in sex development are also included. These populations also encompass those who do not self-identify with one of these terms but whose sexual orientation, gender identity or expression, or reproductive development is characterized by non-binary constructs of sexual orientation, gender, and/or sex.

The Sexual and Gender Minority Research Office (SGMRO) coordinates sexual and gender minority (SGM)-related research and activities by working directly with the NIH Institutes, Centers, and Offices. The Office was officially established in September 2015 within the NIH Division of Program Coordination, Planning, and Strategic Initiatives (DPCPSI) in the Office of the Director.

This Federal Register notice is in accordance with the 21st Century Cures Act, NIH is required to regularly update their strategic plans. In September 2020, SGMRO posted the NIH Strategic Plan to Advance Research on the Health and Well-Being of Sexual and Gender Minorities FY 2021-2025. The current strategic plan has provided NIH with a framework to improve the health of SGM populations through increased research and support of scientists conducting SGM-relevant research.

Request for Comments on Research Opportunities and Operational Activities related to the NIH Strategic Plan to Advance Research on the Health and Well-being of Sexual and Gender Minorities FY 2021-2025: The NIH has developed a strategic plan to advance SGM research over the next five years. The SGMRO invites input from stakeholders throughout the scientific research community, clinical practice communities, patient and family advocates, scientific or professional organizations, federal partners, internal NIH stakeholders, and other interested members of the public on potential research opportunities and operational activities related to this plan and the NIH mission. This input is valuable, and the community's time and consideration are appreciated.

The SGMRO is invested in increasing SGM-related health research and identifying high-priority research opportunities and operational activities related to SGM health.

The FY 2021-2025 strategic plan includes the following four scientific themes and research opportunities:

1. Clinical research

2. Social and behavioral research

3. Research in chronic diseases and comorbidities

4. Methods and measurement research

Overarching considerations for SGM research extend to all scientific research goal areas to help foster a deeper understanding of SGM health disparities. Key examples of these overarching considerations for SGM research include intersectionality, life situations, aging, SGM subpopulations, and relevant research frameworks.

The FY 2021-2025 strategic plan includes the following four operational goals:

1. Advance rigorous research on the health of SGM populations in both the extramural and intramural research communities;

2. Expand SGM health research by fostering partnerships and collaborations with a strategic array of internal and external stakeholders;

3. Foster a highly skilled and diverse workforce in SGM health research; and

4. Encourage data collection related to SGM populations in research and the biomedical research workforce.

The populations considered under the SGM umbrella term are inclusive and capture all individuals and populations who do not self-identify with binary constructs of sexual orientation, gender, and/or sex. Examples of such populations may include intersex individuals or individuals with differences or disorders of sex development (DSD), Two-Spirit people, transgender and gender-expansive people, bisexual people, and individuals whose gender identity falls within the full spectrum of gender.

To advance NIH priorities in SGM health research, SGMRO requests input from SGM health researchers and related communities on potential research opportunities related to the goals of the FY 2021-2025 strategic plan.

Responses to this RFI are voluntary. Do not include any proprietary, classified, confidential, trade secret, or sensitive information in your response. The responses will be reviewed by NIH staff, and individual feedback will not be provided to any responder. The Government will use the information submitted in response to this RFI at its discretion. The Government reserves the right to use any submitted information on public NIH websites; in reports; in summaries of the state of the science; in any possible resultant solicitation(s), grant(s), or cooperative agreement(s); or in the development of future funding opportunity announcements.

This RFI is for information and planning purposes only and should not be construed as a solicitation for applications or proposals, or as an obligation in any way on the part of the United States Federal Government, NIH, or individual NIH Institutes, Centers, and Offices to provide support for any ideas identified in response to it. The federal government will not pay for the preparation of any information submitted or for the Government's use of such information.

No basis for claims against the U.S. Government shall arise as a result of a response to this RFI or from the Government's use of such information. Additionally, the Government cannot guarantee the confidentiality of the information provided.

Dated: September 24, 2021.
Lawrence A. Tabak,
Principal Deputy Director, National Institutes of Health.

[FR Doc. 2021-21319 Filed 9-29-21; 8:45 am]

BILLING CODE 4140-01-P